DEPARTMENT OF HOMELAND SECURITY

Coast Guard

33 CFR Part 165

[Docket No. USCG-2011-1126]

RIN 1625-AA87

Security Zones; Seattle's Seafair Fleet Week Moving Vessels, Puget Sound, WA

AGENCY: Coast Guard, DHS.

ACTION: Notice of enforcement of regulation.

SUMMARY: The Coast Guard will enforce Seattle's Seafair Fleet Week Moving Vessels Security Zones from 12:00 p.m. on July 31, 2012 through 5:00 p.m. on August 6, 2012. These security zones are necessary to help ensure the security of the vessels from sabotage or other subversive acts during Seafair Fleet Week Parade of Ships. The Designated participating vessels are: the HMCS NANAIMO (NCSM 702), the HMCS EDMONTON (NCSM 703), the HMCS ORIOLE, and the USCGC STRATTON (WMSL 752). During the enforcement period, no person or vessel may enter or remain in the security zones without the permission of the COTP or a Designated Representative. The COTP has granted general permission for vessels to enter the outer 400 yards of the security zones as long as those vessels within the outer 400 yards of the security zones operate at the minimum speed necessary to maintain course unless required to maintain speed by the navigation rules.

DATES: This rule will be enforced from 12:00 p.m. on July 31, 2012 thru 5:00 p.m. on August 6, 2012 unless canceled sooner by the Captain of the Port.

ADDRESSES: Documents indicated in this preamble as being available in the docket are part of docket USCG-2011-1126 and are available online by going to http://www.regulations.gov, inserting USCG-2011-1126 in the “Keyword” box, and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary rule, call or email Lieutenant Junior Grade Anthony P. LaBoy, Sector Puget Sound, Waterways Management Division, U.S. Coast Guard; telephone 206-217-6323, email SectorPugetSoundWWM@uscg.mil. If you have questions on viewing the docket, call Renee V. Wright, Program Manager, Docket Operations, telephone 202-366-9826.

SUPPLEMENTARY INFORMATION: The Coast Guard will enforce the security zones for Seattle's Seafair Fleet Week Moving Vessels within the Captain of the Port, Puget Sound Area of Responsibility in 33 CFR 165.1333 from 12:00 p.m. on July 31, 2012 through 5:00 p.m. on August 6, 2012.

Under the provisions of 33 CFR 165.1333, the following areas are security zones: All navigable waters within 500 yards of the HMCS NANAIMO (NCSM 702), HMCS EDMONTON (NCSM 703), HMCS ORIOLE, and the USCGC STRATTON (WMSL 752) while each vessel is in the Sector Puget Sound COTP Zone. No person or vessel may enter or remain in the security zones described in paragraph (a) of this section without the permission of the COTP or his Designated Representative.

The COTP has granted general permission for vessels to enter the outer 400 yards of the security zones as long as those vessels within the outer 400 yards of the security zones operate at the minimum speed necessary to maintain course unless required to maintain speed by the navigation rules. The COTP may be assisted by other federal, state or local agencies with the enforcement of the security zones.

All vessel operators who desire to enter the inner 100 yards of the security zones or transit the outer 400 yards at greater than minimum speed necessary to maintain course must obtain permission from the COTP or his Designated Representative by contacting the on-scene Coast Guard patrol craft on VHF 13 or Channel 16. Requests must include the reason why movement within this area is necessary. Vessel operators granted permission to enter the security zones will be escorted by the on-scene Coast Guard patrol craft until they are outside of the security zones.

This notice is issued under authority of 33 CFR 165.1333 and 5 U.S.C. 552(a). In addition to this notice, the Coast Guard will provide the maritime community with extensive advanced notification of the security zones via the Local Notice to Mariners and marine information broadcasts on the day of the event.

Dated: July 17, 2012.
S.J. Ferguson,
Captain, U.S. Coast Guard, Captain of the Port, Puget Sound.

[FR Doc. 2012-18570 Filed 7-27-12; 8:45 am]

BILLING CODE 9110-04-P